INTERNATIONAL TRADE COMMISSION

[Inv. No. 337-TA-443]

In the Matter of Certain Flooring Products; Notice of Investigation

AGENCY: U.S. International Trade Commission.

ACTION: Institution of investigation pursuant to 19 U.S.C. 1337.

SUMMARY: Notice is hereby given that a complaint was filed with the U.S. International Trade Commission on December 4, 2000 under section 337 of the Tariff Act of 1930, as amended, 19 U.S.C. 1337, on behalf of Alloc, Inc. of Racine Wisconsin, Berry Finance N.V. of Oostrozebeke, Belgium, and Välinge Aluminum, AB of Viken, Sweden. A supplement to the Complaint was filed on December 22, 2000. The complaint, as supplemented, alleges violations of section 337 in the importation into the United States, the sale for importation, and the sale within the United States after importation of certain flooring products by reason of infringement of claims 1-3, 5, 6, 8-12, 14, 15, 17-36, 38-40 and 41 of U.S. Letters Patent 5,860,267 and claims 1-14 of U.S. Letters Patent 6,023,907. The complaint further alleges that an industry in the United States exists and/or is in the process of being established as required by subsection (a)(2) of section 337.

The complainants request that the Commission institute an investigation and, after a hearing, issue a permanent exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing-impaired individuals are advised that information on this matter can be obtained by contacting the Commission's TDD terminal on 202-205-1810. Persons with mobility impairments who will need special assistance in gaining access to the Commission should contact the Office of the Secretary at 202-205-2000.

FOR FURTHER INFORMATION CONTACT: James B. Coughlan, Esq., Office of Unfair Import Investigations, U.S. International Trade Commission, telephone 202-205-2221. General information concerning the Commission may also be obtained by accessing its internet server (http://www.usitc.gov).

Authority: The authority for institution of this investigation is contained in section 337 of the Tariff Act of 1930, as amended, and in section 210.10 of the Commission's Rules of Practice and Procedure, 19 CFR 210.10 (2000).

Scope of Investigation

Having considered the complaint, the U.S. International Trade Commission, on December 27, 2000, Ordered That—

(1) Pursuant to subsection (b) of section 337 of the Tariff Act of 1930, as amended, an investigation be instituted to determine whether there is a violation of subsection (a)(1)(B) of section 337 in the importation into the United States, the sale for importation, or the sale within the United States after importation of certain flooring products by reason of infringement of claims 1-3, 5, 6, 8-12, 14, 15, 17-36, 38-40 or 41 of U.S. Letters Patent 5,860,267 or claims 1-13 or 14 of U.S. Letters Patent 6,023,907, and whether an industry in the United States exists or is in the process of being established as required by subsection (a)(2) of section 337.

(2) For the purpose of the investigation so instituted, the following are hereby named as parties upon which this notice of investigation shall be served:

(a) The complainants are:

Alloc, Inc., 3441 South Memorial Drive, Racine, Wisconsin 53403

Berry Financial N.V., Ingelmunstersteenweg 164, B-8780, Oostrozebeke, Belgium

Välinge Aluminium AB, Kyrkogranden 1, S-26040, Viken, Sweden

(b) The respondents are the following companies alleged to be in violation of section 337, and are the parties upon which the complaint is to be served:

Unilin Décor N.V., Ooigemstraat 3, B-8710, Wielsbeke, Belgium

BHK of America, Inc., 11 Bond Street, Central Valley, NY 10917

Pergo, Inc., 3128 Highwoods Boulevard, Raleigh, NC 27604

Meister-Leisten Schulte GmbH, Meiste, Zum Walde 16, D-59602 Rüthen, Germany

Akzenta Paneele + Profile GmbH, Werner-Von-Siemens Str., 56759 Kaisersesch, Germany

Tarkett, Inc., 1139 Lehigh Avenue, Whitehall, Pennsylvania 18052

Roysol, 86, rue du fauborg Saint-Martin, F 89600 Saint Florentin, France

(c) James B. Coughlan, Esq., Office of Unfair Import Investigations, U.S. International Trade Commission, 500 E Street, SW., Room 401-L, Washington, DC 20436, who shall be the Commission investigative attorney, party to this investigation; and

(3) For the investigation so instituted, the Honorable Paul J. Luckern is designated as the presiding administrative law judge.

Responses to the complaint and the notice of investigation must be submitted by the named respondents in accordance with section 210.13 of the Commission's Rules of Practice and Procedure, 19 CFR 210.13. Pursuant to 19 CFR 201.16(d) and 210.13(a) of the Commission's Rules, such responses will be considered by the Commission if received not later than 20 days after the date of service by the Commission of the complaint and the notice of investigation. Extensions of time for submitting responses to the complaint will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

Issued: December 29, 2000.
By order of the Commission.
Donna R. Koehnke,
Secretary.

[FR Doc. 01-338 Filed 1-4-01; 8:45 am]

BILLING CODE 7020-02-P